DEPARTMENT OF STATE

[Public Notice: 6122]

30-Day Notice of Proposed Information Collection: Department of State Form DS-1504; Request for Customs Clearance of Merchandise; OMB Control Number 1405-0104

ACTION: Notice of request for public comment and submission to OMB of proposed collection of information.

SUMMARY: The Department of State has submitted the following information collection request to the Office of Management and Budget (OMB) for approval in accordance with the Paperwork Reduction Act of 1995.

• Title of Information Collection: Request for Customs Clearance of Merchandise.

• OMB Control Number: 1405-0104.

• Type of Request: Extension of a Currently Approved Collection.

• Originating Office: DS/OFM/VTC/TC.

• Form Number: DS-1504.

• Respondents: Eligible foreign diplomatic or consular missions, certain foreign government organizations, and designated international organizations.

• Estimated Number of Respondents: 350.

• Estimated Number of Responses: 7800.

• Average Hours per Response: 30 minutes.

• Total Estimated Burden: 3900 hours.

• Frequency: On Occasion.

• Obligation to Respond: Required to Obtain or Retain a Benefit.

DATES: Submit comments to the Office of Management and Budget (OMB) for up to 30 days from March 7, 2008.

ADDRESSES: Direct comments and questions to Katherine Astrich, the Department of State Desk Officer in the Office of Information and Regulatory Affairs at the Office of Management and Budget (OMB), who may be reached at 202-395-4718. You may submit comments by any of the following methods:

• E-mail: kastrich@omb.eop.gov. You must include the DS form number, information collection title, and OMB control number in the subject line of your message.

• Mail (paper, disk, or CD-ROM submissions): Office of Information and Regulatory Affairs, Office of Management and Budget, 725 17th Street, NW., Washington, DC 20503.

• Fax: 202-395-6974.

FOR FURTHER INFORMATION CONTACT: Direct requests for additional information regarding the collection listed in this notice, including requests for copies of the proposed information collection and supporting documents, to Ms. Irina Kolb, DS/OFM/TC, 3507 International Place, NW., U.S. Department of State, Washington, DC 2008, who may be reached on 202-895-3683, or by e-mail at kaufmani@state.gov.

SUPPLEMENTARY INFORMATION: We are soliciting public comments to permit the Department to:

• Evaluate whether the proposed information collection is necessary for the proper performance of our functions.

• Evaluate the accuracy of our estimate of the burden of the proposed collection, including the validity of the methodology and assumptions used.

• Enhance the quality, utility, and clarity of the information to be collected.

• Minimize the reporting burden on those who are to respond, including the use of automated collection techniques or other forms of technology.

Abstract of Proposed Collection

Exemption from customs duties is a privilege enjoyed by foreign diplomatic and consular personnel on assignment in the United States under the provision of the Vienna Conventions on Diplomatic and Consular Relations and the terms of various bilateral agreements. Under the Foreign Missions Act of 1982 (as amended), 22 U.S.C. 4301 et seq., the Department of State's Office of Foreign Missions (OFM) is given the authority to grant privileges and benefits, based on reciprocity. Form DS-1504 “Request for Customs Clearance of Merchandise” provides OFM with the necessary information to provide and administer the benefit effectively and efficiently.

Methodology

Paper copies of the Form DS-1504 are either hand carried or mailed to OFM. Foreign Missions can access this from on the OFM website in Portable Document Format (PDF), which provides a data-input and print feature for clean and legible paper copies. An electronic submission option is expected to be made available to respondents in 2008.

Dated: February 21, 2008.
Claude J. Nebel,
Deputy Assistant Secretary of State and Deputy Director, Office of Foreign Missions, Bureau of Diplomatic Security, Department of State.

[FR Doc. E8-4526 Filed 3-6-08; 8:45 am]

BILLING CODE 4710-43-P